DEPARTMENT OF JUSTICE

Drug Enforcement Administration

[Docket No. DEA-392]

Bulk Manufacturer of Controlled Substances Application: Chattem Chemicals, Inc.

Correction

In notice document 2014-21062 appearing on page 52764 in the issue of Thursday, September 4, 2014, make the following correction:

In the second column, in the table, below the fourth row, insert the following row:

Methamphetamine (1105) | II

[FR Doc. C1-2014-21062 Filed 9-10-14; 8:45 am]

BILLING CODE 1505-01-D